JUDICIAL CONFERENCE OF THE UNITED STATES

Advisory Committee on Evidence Rules; Meeting of the Judicial Conference

AGENCY: Judicial Conference of the United States.

ACTION: Advisory Committee on Evidence Rules; revised notice of open meeting.

SUMMARY: The Advisory Committee on Evidence Rules will hold a virtual meeting on April 30, 2021 starting at 9:30 a.m. (Eastern) rather than 10:00 a.m. The meeting is open to the public. When a meeting is held virtually, members of the public may join by telephone or videoconference to observe but not participate. An agenda and supporting materials will be posted at least 7 days in advance of the meeting at: http://www.uscourts.gov/rules-policies/records-and-archives-rules-committees/agenda-books. The announcement for this meeting was previously published in the Federal Register on January 22, 2021.

DATES: April 30, 2021, 9:30 a.m.—5 p.m. (Eastern).

FOR FURTHER INFORMATION CONTACT: Julie Wilson, Esq., Acting Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

Authority: 28 U.S.C. 2073.

Dated: April 9, 2021.
Shelly L. Cox,
Management Analyst, Rules Committee Staff.

[FR Doc. 2021-07640 Filed 4-13-21; 8:45 am]

BILLING CODE 2210-55-P